DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Napa County, California, and Incorporated Areas
Docket No.: FEMA-B-1072
Napa Creek | At the confluence with the Napa River | +18 | City of Napa.
| Approximately 100 feet upstream of Jefferson Street | +34
Napa River (With Levee) | Approximately 715 feet west of the State Route 121/East Avenue intersection | +27 | City of Napa, Unincorporated Areas of Napa County.
| Approximately 1,530 feet southwest of the intersection of State Route 121 and Woodland Drive | +29
Napa River (Without Levee) | Approximately 0.5 mile downstream of Imola Avenue | +12 | City of Napa, Unincorporated Areas of Napa County.
| Approximately 1,230 feet downstream of the confluence with Soda Creek | +46
Napa River Oxbow Overflow | At the confluence with Tulucay Creek | +16 | City of Napa, Unincorporated Areas of Napa County.
| Approximately 0.39 mile upstream of Soscol Avenue | +19
Ponding Areas with elevations determined (AH Zones) | Extensive ponding areas, in roadways south of Salvador Creek (lowest elevation) | +39 | City of Napa, Unincorporated Areas of Napa County.
| Extensive ponding areas, in roadways south of Salvador Creek (highest elevation) | +76
Salvador Creek | At the confluence with the Napa River | +31 | City of Napa, Unincorporated Areas of Napa County.
| Approximately 100 feet upstream of State Route 29 | +75
Salvador Creek North Branch | At the confluence with Salvador Creek | +75 | City of Napa, Unincorporated Areas of Napa County.
| Approximately 0.8 mile upstream of the confluence with Salvador Creek | +93
Salvador Creek South Branch | At the confluence with Salvador Creek | +75 | City of Napa.
| Approximately 1,365 feet upstream of Salvador Creek | +76
Shallow Flooding (AO Zone) | Approximately 425 feet northeast of the Imola Avenue/Gasser Drive intersection | #1 | City of Napa.
| Approximately 1,400 feet northeast of the Imola Avenue/Gasser Drive intersection | #2
Tulucay Creek | At the confluence with the Napa River | +15 | City of Napa, Unincorporated Areas of Napa County.
| Approximately 560 feet upstream of Shurtleff Avenue | +38
* National Geodetic Vertical Datum.
+ North American Vertical Datum.
# Depth in feet above ground.
‸ Mean Sea Level, rounded to the nearest 0.1 meter.
ADDRESSES
City of Napa
Maps are available for inspection at the Public Works Department, 1600 1st Street, Napa, CA 94559.
Unincorporated Areas of Napa County
Maps are available for inspection at the Napa County Public Works Department, 1195 3rd Street, Napa, CA 94559.
Walton County, Florida, and Incorporated Areas
Docket No.: FEMA-B-7792
Bay Branch | At the confluence with Bruce Creek | +106 | City of De Funiak Springs, Unincorporated Areas of Walton County.
| Approximately 900 feet upstream of U.S. Route 331 | +125
Black Creek | At County Road 3280 | +7 | Unincorporated Areas of Walton County.
| Approximately 1,570 feet upstream of County Road 3280 | +7
Bruce Creek | Approximately 1,100 feet downstream of the confluence with Mill Creek | +72 | City of De Funiak Springs, Unincorporated Areas of Walton County.
| Approximately 6,700 feet upstream of the confluence with Bay Branch | +114
Camp Creek | At the confluence with Black Creek | +7 | Unincorporated Areas of Walton County.
| Approximately 5,400 feet upstream of the confluence with Black Creek | +7
Gum Creek | At the confluence with the Shoal River | +150 | Unincorporated Areas of Walton County.
| Approximately 12,700 feet upstream of the confluence with the Shoal River | +156
Lafayette Creek | At State Road 20 | +10 | City of Freeport, Unincorporated Areas of Walton County.
| Approximately 4,000 feet upstream of J.W. Hollington Road | +58
Mill Creek | At the confluence with Bruce Creek | +73 | Unincorporated Areas of Walton County.
| Approximately 75 feet upstream of Edgewood Circle | +146
Mill Creek Unnamed Tributary | At the confluence with Mill Creek | +124 | Unincorporated Areas of Walton County.
| Approximately 200 feet upstream of Edgewood Circle | +175
Pate Branch | At the confluence with Camp Creek | +7 | Unincorporated Areas of Walton County.
| Approximately 3,900 feet upstream of the confluence with Camp Creek | +7
Shoal River | At the Okaloosa/Walton county boundary | +111 | Unincorporated Areas of Walton County.
| At the confluence with Gum Creek | +150
* National Geodetic Vertical Datum.
+ North American Vertical Datum.
# Depth in feet above ground.
‸ Mean Sea Level, rounded to the nearest 0.1 meter.
ADDRESSES
City of De Funiak Springs
Maps are available for inspection at City Hall, 71 U.S. Route 90 West, De Funiak Springs, FL 32433.
City of Freeport
Maps are available for inspection at the Planning and Zoning Department, 112 U.S. Route 20 West, Freeport, FL 32439.
Unincorporated Areas of Walton County
Maps are available for inspection at the Walton County Planning and Development Department, South Walton County Courthouse Annex, 31 Coastal Centre Boulevard, Santa Rosa Beach, FL 32459.
McDuffie County, Georgia, and Incorporated Areas
Docket No.: FEMA-B-1072
Boggy Gut Creek | Approximately 2.35 miles upstream of Harlem Wrens Road | +429 | Unincorporated Areas of McDuffie County.
| Approximately 3.13 miles upstream of Harlem Wrens Road | +483
* National Geodetic Vertical Datum.
+ North American Vertical Datum.
# Depth in feet above ground.
‸ Mean Sea Level, rounded to the nearest 0.1 meter.
ADDRESSES
Unincorporated Areas of McDuffie County
Maps are available for inspection at 504 Railroad Street, Thomson, GA 30824.
Murray County, Georgia, and Incorporated Areas
Docket No.: FEMA-B-1072
Holly Creek | Approximately 0.77 mile downstream of CSX Railroad | +717 | City of Chatsworth.
| Approximately 0.4 mile upstream of State Route 52/U.S. Route 76 | +730
Mill Creek | Approximately 2.6 miles downstream of U.S. Route 411 | +702 | City of Chatsworth, Town of Eton.
| Approximately 1,300 feet upstream of State Route 286/Old CCC Camp Road | +733
* National Geodetic Vertical Datum.
+ North American Vertical Datum.
# Depth in feet above ground.
‸ Mean Sea Level, rounded to the nearest 0.1 meter.
ADDRESSES
City of Chatsworth
Maps are available for inspection at City Hall, 400 North 3rd Avenue, Chatsworth, GA 30705.
Town of Eton
Maps are available for inspection at the Town Hall, 3464 Highway 411 North, Eton, GA.
Cass County, Illinois, and Incorporated Areas
Docket No.: FEMA-B-1053
Illinois River | At the confluence with Camp Creek in Brown County, approximately 2,185 feet upstream of the Morgan County boundary | +448 | City of Beardstown, Unincorporated Areas of Cass County.
| At the downstream end of Elm Island in Schuyler County, approximately 650 feet upstream of the Cass/Mason county boundary | +452
Illinois River (backwater on the Sangamon River) | At the confluence with the Illinois River | +451 | Unincorporated Areas of Cass County.
| Approximately 12 miles upstream of the confluence with the Illinois River | +452
Panther Creek | Approximately 3,220 feet downstream of State Route 78 | +458 | Unincorporated Areas of Cass County.
| Approximately 3,660 feet upstream of Main Street | +472
Sangamon River | Approximately 285 feet upstream of Old River Road | +456 | City of Beardstown, Unincorporated Areas of Cass County.
| Approximately 1,600 feet upstream of State Route 78 | +461
* National Geodetic Vertical Datum.
+ North American Vertical Datum.
# Depth in feet above ground.
‸ Mean Sea Level, rounded to the nearest 0.1 meter.
ADDRESSES
City of Beardstown
Maps are available for inspection at City Hall, 105 West 3rd Street, Beardstown, IL 62618.
Unincorporated Areas of Cass County
Maps are available for inspection at the Cass County Courthouse, 100 East Springfield Street, Virginia, IL 62691.
Adams County, Indiana, and Incorporated Areas
Docket No.: FEMA-B-7737
Borum Run | At the confluence with the St. Mary's River | +791 | City of Decatur, Unincorporated Areas of Adams County.
| Approximately 5,125 feet upstream of High Street | +791
Holthouse Ditch | At the confluence with the St. Mary's River | +787 | City of Decatur, Unincorporated Areas of Adams County.
| Approximately 4,700 feet upstream of Washington Street | +787
Kohne Drain No. 1 | At the confluence with Holthouse Ditch | +787 | City of Decatur, Unincorporated Areas of Adams County.
| Approximately 1,350 feet upstream of Meibers Street | +787
Koos Ditch | At the confluence with the St. Mary's River | +789 | City of Decatur, Unincorporated Areas of Adams County.
| Approximately 1,550 upstream of Piqua Road | +789
St. Mary's River | Approximately 14,750 feet downstream of County Road 350 West | +778 | City of Decatur, Unincorporated Areas of Adams County.
| Approximately 16,650 feet upstream of State Road 101 | +794
Yellow Creek | At the confluence with the St. Mary's River | +791 | Unincorporated Areas of Adams County.
| Approximately 1,750 feet upstream of Norfolk and Western Railway | +791
* National Geodetic Vertical Datum.
+ North American Vertical Datum.
# Depth in feet above ground.
‸ Mean Sea Level, rounded to the nearest 0.1 meter.
ADDRESSES
City of Decatur
Maps are available for inspection at 225 West Monroe Street, Decatur, IN 46733.
Unincorporated Areas of Adams County
Maps are available for inspection at 313 West Jefferson Street, Suite 338, Decatur, IN 46733.
Calloway County, Kentucky, and Incorporated Areas
Docket No.: FEMA-B-1069
Anderson Creek | From the confluence with Kentucky Lake to approximately 0.7 mile upstream of the confluence with Kentucky Lake (backwater effects from Kentucky Lake) | +375 | Unincorporated Areas of Calloway County.
Bailey Hollow | From the confluence with Kentucky Lake to approximately 0.5 mile upstream of the confluence with Kentucky Lake (backwater effects from Kentucky Lake) | +375 | Unincorporated Areas of Calloway County.
Bee Creek | Just upstream of the confluence with the Clarks River | +457 | City of Murray, Unincorporated Areas of Calloway County.
| Just downstream of railroad | +463
Beechy Creek | From the confluence with Kentucky Lake to approximately 1.5 mile upstream of the confluence with Kentucky Lake (backwater effects from Kentucky Lake) | +375 | Unincorporated Areas of Calloway County.
Blood River | From the confluence with Kentucky Lake to approximately 2.8 miles upstream of the confluence with Kentucky Lake (backwater effects from Kentucky Lake) | +375 | Unincorporated Areas of Calloway County.
Blood River Tributary 1 | From the confluence with Kentucky Lake to approximately 0.7 mile upstream of the confluence with Kentucky Lake (backwater effects from Kentucky Lake) | +375 | Unincorporated Areas of Calloway County.
Blood River Tributary 5 | From the confluence with Kentucky Lake to approximately 0.6 mile upstream of the confluence with Kentucky Lake (backwater effects from Kentucky Lake) | +375 | Unincorporated Areas of Calloway County.
Brush Creek | From the confluence with Kentucky Lake to approximately 0.4 mile upstream of the confluence with Kentucky Lake (backwater effects from Kentucky Lake) | +375 | Unincorporated Areas of Calloway County.
Clarks River | Approximately 0.75 mile upstream of the confluence with Clarks River Tributary 14 | +437 | City of Murray, Unincorporated Areas of Calloway County.
| At the confluence with the East and Middle Fork Clarks River | +479
Clayton Creek | From the confluence with the Clarks River to approximately 0.7 mile upstream of the confluence with the Clarks River (backwater effects from Clarks River) | +468 | Unincorporated Areas of Calloway County.
Dog Creek | From the confluence with the Blood River to approximately 0.8 mile upstream of the confluence with the Blood River (backwater effects from Kentucky Lake) | +375 | Unincorporated Areas of Calloway County.
East Fork Clarks River | At the confluence with the Clarks River and Middle Fork Clarks River | +479 | City of Murray, Unincorporated Areas of Calloway County.
| Approximately 0.9 mile upstream of the confluence with the Middle Fork Clarks River | +482
Goose Creek | From the confluence with Dog Creek to approximately 0.2 mile upstream of the confluence with Dog Creek (backwater effects from Kentucky Lake) | +375 | Unincorporated Areas of Calloway County.
Grindstone Creek | From the confluence with Blood River Tributary 1 to approximately 0.2 mile upstream of the confluence with Blood River Tributary 1 (backwater effects from Kentucky Lake) | +375 | Unincorporated Areas of Calloway County.
Jonathan Creek | From the Calloway County boundary to approximately 1 mile upstream of the county boundary (backwater effects from Kentucky Lake) | +375 | Unincorporated Areas of Calloway County.
Kentucky Lake | Entire shoreline of Kentucky Lake | +375 | Unincorporated Areas of Calloway County.
Ledbetter Creek | From the confluence with Kentucky Lake to approximately 0.6 mile upstream of the confluence with Kentucky Lake (backwater effects from Kentucky Lake) | +375 | Unincorporated Areas of Calloway County.
Little Sugar Creek | From the confluence with Kentucky Lake to approximately 0.5 mile upstream of the confluence with Kentucky Lake (backwater effects from Kentucky Lake) | +375 | Unincorporated Areas of Calloway County.
Middle Fork Clarks River | At the confluence with the Clarks River and East Middle Fork Clarks River | +479 | City of Murray, Unincorporated Areas of Calloway County.
| Approximately 1,000 feet downstream of U.S. Route 641 | +481
Panther Creek | From the confluence with Kentucky Lake to approximately 1.1 mile upstream of the confluence with Kentucky Lake (backwater effects from Kentucky Lake) | +375 | Unincorporated Areas of Calloway County.
Shannon Creek | From the confluence with Kentucky Lake to approximately 0.6 mile upstream of the confluence with Kentucky Lake (backwater effects from Kentucky Lake) | +375 | Unincorporated Areas of Calloway County.
Snipe Creek | From the confluence with Kentucky Lake to approximately 0.4 mile upstream of the confluence with Kentucky Lake (backwater effects from Kentucky Lake) | +375 | Unincorporated Areas of Calloway County.
Sugar Creek | From the confluence with Kentucky Lake to approximately 0.8 mile upstream of the confluence with Kentucky Lake (backwater effects from Kentucky Lake) | +375 | Unincorporated Areas of Calloway County.
Sugar Creek Tributary 2 | From the confluence with Kentucky Lake to approximately 0.5 mile upstream of the confluence with Kentucky Lake (backwater effects from Kentucky Lake) | +375 | Unincorporated Areas of Calloway County.
Tan Branch | From the confluence with Kentucky Lake to approximately 0.7 mile upstream of the confluence with Kentucky Lake (backwater effects from Kentucky Lake) | +375 | Unincorporated Areas of Calloway County.
Tennessee River Tributary 75 | From the confluence with Kentucky Lake to approximately 0.7 mile upstream of the confluence with Kentucky Lake (backwater effects from Kentucky Lake) | +375 | Unincorporated Areas of Calloway County.
Tennessee River Tributary 91 | From the confluence with Kentucky Lake to approximately 0.5 mile upstream of the confluence with Kentucky Lake (backwater effects from Kentucky Lake) | +375 | Unincorporated Areas of Calloway County.
Tributary 1 to Clarks River | At the confluence with the Clarks River | +470 | Unincorporated Areas of Calloway County.
| Approximately 1,800 feet upstream of the confluence with the Clarks River | +473
Tributary to Middle Fork Clarks River | At the confluence with the Middle Fork Clarks River | +479 | Unincorporated Areas of Calloway County.
| Approximately 1,700 feet upstream of the confluence with the Middle Fork Clarks River | +484
Wildcat Creek | From the confluence with Kentucky Lake to approximately 1.2 mile upstream of the confluence with Kentucky Lake (backwater effects from Kentucky Lake) | +375 | Unincorporated Areas of Calloway County.
Yellow Spring Branch | From the confluence with Kentucky Lake to approximately 0.4 mile upstream of the confluence with Kentucky Lake (backwater effects from Kentucky Lake) | +375 | Unincorporated Areas of Calloway County.
* National Geodetic Vertical Datum.
+ North American Vertical Datum.
# Depth in feet above ground.
‸ Mean Sea Level, rounded to the nearest 0.1 meter.
ADDRESSES
City of Murray
Maps are available for inspection at 104 North 5th Street, Murray, KY 42071.
Unincorporated Areas of Calloway County
Maps are available for inspection at 101 South 5th Street, Murray, KY 42071.
Jones County, Mississippi, and Incorporated Areas
Docket No.: FEMA-B-1051
Tallahala Creek | Approximately 800 feet upstream of Luther Hill Road | +219 | City of Laurel, Unincorporated Areas of Jones County.
| Approximately 1,000 feet upstream of U.S. Route 84 | +228
* National Geodetic Vertical Datum.
+ North American Vertical Datum.
# Depth in feet above ground.
‸ Mean Sea Level, rounded to the nearest 0.1 meter.
ADDRESSES
City of Laurel
Maps are available for inspection at the City Clerk's Office, 401 North 5th Avenue, Laurel, MS 39440.
Unincorporated Areas of Jones County
Maps are available for inspection at the Jones County Courthouse, 415 North 5th Avenue, Laurel, MS 39440.
Laclede County, Missouri, and Incorporated Areas
Docket No.: FEMA-B-1043
Radio Tower Branch | Approximately 2,300 feet upstream of the confluence with Goodwin Hallow | +1166 | City of Lebanon.
| Approximately 3,150 feet upstream of the confluence with Goodwin Hallow | +1170
* National Geodetic Vertical Datum.
+ North American Vertical Datum.
# Depth in feet above ground.
‸ Mean Sea Level, rounded to the nearest 0.1 meter.
ADDRESSES
City of Lebanon
Maps are available for inspection at 400 South Madison Avenue, Lebanon, MO 65536.
Lincoln County, Missouri, and Incorporated Areas
Docket No.: FEMA-B-1057
Cuivre River | At the confluence with the Mississippi River at East Sycamore Road, east of the City of Old Monroe | +444 | City of Old Monroe, Unincorporated Areas of Lincoln County.
McLean Creek | At the confluence with the Mississippi River, just east of the City of Winfield | +445 | City of Winfield, Unincorporated Areas of Lincoln County.
Mississippi River | At the southern Lincoln County boundary, east of the City of Old Monroe | +444 | City of Elsberry, City of Foley, City of Old Monroe, City of Winfield, Unincorporated Areas of Lincoln County.
| At the northern Lincoln County boundary, at Dameron Road | +450
Sandy Creek | At the confluence with the Mississippi River, east of the City of Foley | +446 | City of Foley, Unincorporated Areas of Lincoln County.
* National Geodetic Vertical Datum.
+ North American Vertical Datum.
# Depth in feet above ground.
‸ Mean Sea Level, rounded to the nearest 0.1 meter.
ADDRESSES
City of Elsberry
Maps are available for inspection at 201 Broadway Street, Elsberry, MO 63343.
City of Foley
Maps are available for inspection at 617 Elm Street, Foley, MO 63347.
City of Old Monroe
Maps are available for inspection at 151 Main Street, Old Monroe, MO 63369.
City of Winfield
Maps are available for inspection at 51 Old Troy Highway, Winfield, MO 63389.
Unincorporated Areas of Lincoln County
Maps are available for inspection at 201 Main Street, Troy, MO 63379.
Sequoyah County, Oklahoma, and Incorporated Areas
Docket No.: FEMA-B-1060
Hog Creek | Just upstream of East 1040 Road | +577 | Unincorporated Areas of Sequoyah County.
| Approximately 0.85 mile upstream of East 1040 Road | +619
Sewage Disposal Pond | Approximately 0.47 mile downstream of Union Pacific Railroad | +481 | Town of Gore.
| Just downstream of Union Pacific Railroad | +481
* National Geodetic Vertical Datum.
+ North American Vertical Datum.
# Depth in feet above ground.
‸ Mean Sea Level, rounded to the nearest 0.1 meter.
ADDRESSES
Town of Gore
Maps are available for inspection at 201 North Main Street, Gore, OK 74435.
Unincorporated Areas of Sequoyah County
Maps are available for inspection at 117 South Oak Street, Salisaw, OK 74955.
Brown County, South Dakota, and Incorporated Areas
Docket No.: FEMA-B-1053
James River | Approximately 3.8 miles downstream of 147th Street | +1275 | Unincorporated Areas of Brown County.
| Approximately 6,260 feet upstream of 101st Street | +1296
* National Geodetic Vertical Datum.
+ North American Vertical Datum.
# Depth in feet above ground.
‸ Mean Sea Level, rounded to the nearest 0.1 meter.
ADDRESSES
Unincorporated Areas of Brown County
Maps are available for inspection at 25 Market Street, Aberdeen, SD 57401.
Davison County, South Dakota, and Incorporated Areas
Docket No.: FEMA-B-1054
Dry Run Creek | Approximately 1,554 feet downstream of SD Highway 38 | +1254 | City of Mitchell, Unincorporated Areas of Davison County.
| Approximately 2,578 feet upstream of 407th Avenue | +1303
* National Geodetic Vertical Datum.
+ North American Vertical Datum.
# Depth in feet above ground.
‸ Mean Sea Level, rounded to the nearest 0.1 meter.
ADDRESSES
City of Mitchell
Maps are available for inspection at 612 North Main Street, Mitchell, SD 57301.
Unincorporated Areas of Davison County
Maps are available for inspection at 200 East 4th Avenue, Mitchell, SD 57301.
Clay County, Tennessee, and Incorporated Areas
Docket No.: FEMA-B-1074
Cumberland River | Approximately 3.5 miles downstream of State Route 52 | +508 | City of Celina, Unincorporated Areas of Clay County.
| Approximately 4.8 miles upstream of State Route 52 | +518
* National Geodetic Vertical Datum.
+ North American Vertical Datum.
# Depth in feet above ground.
‸ Mean Sea Level, rounded to the nearest 0.1 meter.
ADDRESSES
City of Celina
Maps are available for inspection at City Hall, 143 Cordell Hull Drive, Celina, TN 38551.
Unincorporated Areas of Clay County
Maps are available for inspection at the Clay County Public Library, 116 Guffey Street, Celina, TN 38551.
Perry County, Tennessee, and Incorporated Areas
Docket No.: FEMA-B-1068
Tennessee River | Approximately 15 miles downstream of U.S. Route 412 | +375 | Unincorporated Areas of Perry County.
| Approximately 18.2 miles upstream of U.S. Route 412 | +386
* National Geodetic Vertical Datum.
+ North American Vertical Datum.
# Depth in feet above ground.
‸ Mean Sea Level, rounded to the nearest 0.1 meter.
ADDRESSES
Unincorporated Areas of Perry County
Maps are available for inspection at 121 East Main Street, Linden, TN 37096.
Rusk County, Texas, and Incorporated Areas
Docket No.: FEMA-B-1043
Unnamed Stream off of Turkey Creek | At the confluence with Turkey Creek | +329 | City of Henderson.
| Approximately 110 feet downstream of Florence Street | +336
* National Geodetic Vertical Datum.
+ North American Vertical Datum.
# Depth in feet above ground.
‸ Mean Sea Level, rounded to the nearest 0.1 meter.
ADDRESSES
City of Henderson
Maps are available for inspection at City Hall, 400 West Main Street, Henderson, TX 75652.
Box Elder County, Utah, and Incorporated Areas
Docket No.: FEMA-B-1065
Box Elder Creek | Just upstream of Watery Lane | +4236 | City of Brigham City.
| Upstream extent of Mayor's Pond spillway | +4541
* National Geodetic Vertical Datum.
+ North American Vertical Datum.
# Depth in feet above ground.
‸ Mean Sea Level, rounded to the nearest 0.1 meter.
ADDRESSES
City of Brigham City
Maps are available for inspection at 20 North Main Street, Brigham City, UT 84302.
Bedford County, Virginia, and Incorporated Areas
Docket Nos.: FEMA-B-1066 and FEMA-B-7768
Ivy Creek | Approximately 1,430 feet downstream of Hawkins Mill Road | +679 | Unincorporated Areas of Bedford County.
| Approximately 2,200 feet downstream of Tabernacle Lane | +829
Johns Creek | At the confluence with the Little Otter River | +732 | City of Bedford, Unincorporated Areas of Bedford County.
| Approximately 1,800 feet downstream of Independence Boulevard | +818
| Approximately 445 feet downstream of Independence Boulevard | +828
| Approximately 740 feet upstream of Independence Boulevard | +842
| Approximately 3,400 feet upstream of Independence Boulevard | +861
| At East Main Street | +939
Lick Run | Approximately 5.2 miles above the confluence with the Big Otter River | +727 | Unincorporated Areas of Bedford County.
| Just downstream of U.S. Route 460 | +756
Little Otter River | At Big Island Highway | +792 | Unincorporated Areas of Bedford County.
| At Route 43 | +839
Tributary No. 10 to Ivy Creek | At the confluence with Ivy Creek | +700 | Unincorporated Areas of Bedford County.
| Approximately 500 feet downstream of Forest Road | +838
Tributary No. 11 to Ivy Creek | Approximately 850 feet upstream of the confluence with Ivy Creek | +696 | Unincorporated Areas of Bedford County.
| Just downstream of Forest Road | +801
Tributary No. 14 to Ivy Creek | At the confluence with Ivy Creek | +683 | Unincorporated Areas of Bedford County.
| Approximately 1,500 feet upstream of McIntosh Drive | +812
Tributary No. 15 to Ivy Creek | At the City of Lynchburg/Bedford County boundary | +671 | Unincorporated Areas of Bedford County.
| Approximately 1 mile upstream of Hawkins Mill Road | +800
Tributary No. 8 to Little Otter River | At the confluence with the Little Otter River | +797 | City of Bedford, Unincorporated Areas of Bedford County.
| Approximately 500 feet downstream of Longwood Avenue | +932
Tributary No. 8A to Little Otter River | At the confluence with Tributary No. 8 to Little Otter River | +824 | City of Bedford, Unincorporated Areas of Bedford County.
| Approximately 0.5 mile upstream of the confluence with Tributary No. 8 to Little Otter River | +914
Tributary No. 9 to Little Otter River | At the confluence with the Little Otter River | +826 | City of Bedford, Unincorporated Areas of Bedford County.
| Approximately 2,400 feet upstream of Whitfield Drive | +940
Tributary No. 10 to Little Otter River | At the confluence with the Little Otter River | +839 | City of Bedford, Unincorporated Areas of Bedford County.
| At Lake Drive | +867
* National Geodetic Vertical Datum.
+ North American Vertical Datum.
# Depth in feet above ground.
‸ Mean Sea Level, rounded to the nearest 0.1 meter.
ADDRESSES
City of Bedford
Maps are available for inspection at the Municipal Offices, 215 East Main Street, Bedford, VA 24523.
Unincorporated Areas of Bedford County
Maps are available for inspection at the Office of the Bedford County Administrator, 122 East Main Street, Suite 2002, Bedford, VA 24523.
Dickenson County, Virginia, and Incorporated Areas
Docket No.: FEMA-B-1061
Frying Pan Creek | At the confluence with Russell Fork | +1293 | Unincorporated Areas of Dickenson County.
| Approximately 1,400 feet downstream of the intersection with Sandlick Road and Frying Pan Road | +1316
Greenbriar Creek | At the confluence with Russell Prater Creek | +1418 | Unincorporated Areas of Dickenson County.
| Approximately 1,400 feet downstream of the intersection of Winchester Drive and Greenbrier Road | +1426
Lick Creek | At the confluence with Russell Fork | +1289 | Unincorporated Areas of Dickenson County.
| Approximately 1,000 feet upstream of the intersection of Aily Road and Ransom Road | +1559
McClure Creek | Approximately 1,800 feet upstream of the confluence with Open Fork and the McClure River | +1520 | Unincorporated Areas of Dickenson County.
| Approximately 1,100 feet downstream of the intersection of Wakenva Hollow Road and Dante Mountain Road | +1598
McClure River | At the confluence with Russell Fork | +1273 | Town of Clinchco, Town of Haysi, Unincorporated Areas of Dickenson County.
| Approximately 300 feet downstream of the intersection of Doctor Ralph Stanley Highway and Dante Mountain Road | +1518
Mill Creek | At the confluence with the McClure River | +1403 | Town of Clinchco, Unincorporated Areas of Dickenson County.
| Approximately 400 feet upstream of Chevy Drive | +1622
Open Fork | At the confluence with the McClure River | +1518 | Unincorporated Areas of Dickenson County.
| Approximately 1,000 feet upstream of the intersection with Neece Creek Road and Brushy Ridge Road | +1581
Russell Fork | Approximately 1,300 feet downstream of Bartlick Road | +1190 | Town of Haysi, Unincorporated Areas of Dickenson County.
| Approximately 160 feet downstream of Sandlick Road | +1437
Russell Prater Creek | At the confluence with Russell Fork | +1275 | Town of Haysi, Unincorporated Areas of Dickenson County.
| At the confluence with Greenbriar Creek | +1418
Spring Fork | Just downstream of the railroad crossing | +1557 | Unincorporated Areas of Dickenson County.
| Approximately 850 feet upstream of the intersection of Rebel Drive and Doctor Ralph Stanley Highway | +1577
* National Geodetic Vertical Datum.
+ North American Vertical Datum.
# Depth in feet above ground.
‸ Mean Sea Level, rounded to the nearest 0.1 meter.
ADDRESSES
Town of Clinchco
Maps are available for inspection at the Town Office, 156 Main Street, Clinchco, VA 24226.
Town of Haysi
Maps are available for inspection at the Town Administrative Offices, 322 Haysi Main Street, Haysi, VA 24256.
Unincorporated Areas of Dickenson County
Maps are available for inspection at Dickenson County Courthouse, 293 Clintwood Main Street, Clintwood, VA 24228.
Randolph County, West Virginia, and Incorporated Areas
Docket No.: FEMA-B-1066
Backwater flooding from Tygart Valley River | At the area bounded by Robert E. Lee Avenue, Whisperwood Drive and the railroad | +1914 | City of Elkins.
| At the corporate limits paralleling Sunset Drive | +1914
Craven Run | At the downstream corporate limits of the City of Elkins | +1913 | City of Elkins.
| Approximately 630 feet downstream of Virginia Avenue | +1913
* National Geodetic Vertical Datum.
+ North American Vertical Datum.
# Depth in feet above ground.
‸ Mean Sea Level, rounded to the nearest 0.1 meter.
ADDRESSES
City of Elkins
Maps are available for inspection at City Hall, 401 Davis Avenue, 2nd Floor, Elkins, WV 26241.
Upshur County, West Virginia, and Incorporated Areas
Docket No.: FEMA-B-1074
Brushy Fork (backwater effects from Buckhannon River) | At County Route 7/1 (Left Branch of Brushy Fork) | +1415 | Unincorporated Areas of Upshur County.
| Approximately 700 feet upstream of County Route 7/1 (Left Branch of Brushy Fork) | +1415
Fink Run (backwater effects from Buckhannon River) | Just upstream of Old Weston Road | +1415 | Unincorporated Areas of Upshur County.
| Approximately 2,100 feet upstream of the intersection of Old Weston Road and County Route 5/7 (Mudlick Run) | +1415
Unnamed Tributary No. 1 to Fink Run (Backwater effects from Buckhannon River) | At the area bounded by U.S. Route 33, Wabash Avenue, and County Route 33/1 | +1415 | Unincorporated Areas of Upshur County.
* National Geodetic Vertical Datum.
+ North American Vertical Datum.
# Depth in feet above ground.
‸ Mean Sea Level, rounded to the nearest 0.1 meter.
ADDRESSES
Unincorporated Areas of Upshur County
Maps are available for inspection at the Upshur County Courthouse Annex, 38 West Main Street, Buckhannon, WV 26201.

(Catalog of Federal Domestic Assistance No. 97.022, “Flood Insurance.”)

Dated: September 21, 2010.
Edward L. Connor,
Acting Federal Insurance and Mitigation Administrator, Department of Homeland Security, Federal Emergency Management Agency.

[FR Doc. 2010-24326 Filed 9-27-10; 8:45 am]

BILLING CODE 9110-12-P